DEPARTMENT OF HEALTH AND HUMAN SERVICES

Centers for Disease Control and Prevention

[30Day-14-0739]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

CDC Oral Health Management Information System (OMB No. 0920-0739, exp. 4/30/2014)—Revision—Division of Oral Health, National Center for Chronic Disease Prevention and Health Promotion (NCCDPHP), Centers for Disease Control and Prevention (CDC).

Background and Brief Description

The CDC works with state health departments to improve the oral health of the nation. Targeted efforts include building and/or maintaining effective public health capacity for the implementation, evaluation, and dissemination of best practices in oral disease prevention and advancement of oral health. Through a cooperative agreement program (Program Announcement DP13-1307), CDC will provide funding to 21 states over a five-year period. New cooperative agreements went into effect in September 2013 and build on previous funded collaboration involving CDC and state programs.

CDC is currently approved to collect annual progress and activity reports from state-based oral health programs. An electronic reporting system has been in place since 2007 and was enhanced in 2008 to capture information about grantees' success stories and environmental scanning activities. The information collected in the management information system (MIS) improved CDC's ability to disseminate information about successful public health approaches that can be replicated or adapted for use in other states.

CDC plans to implement changes to the existing information collection. Through a Revision request, CDC will increase the number of awardees from 20 to 21; describe changes in the MIS platform and data elements that will align the monitoring and evaluation framework for oral health awardees with the framework used for a number of other programs in the National Center for Chronic Disease Prevention and Health Promotion (NCCDPHP); and implement a revised method of estimating burden. For the three awardees funded at the Basic level, the estimated burden for the initial data entry needed to populate the system is 6 hours. Thereafter, the estimated burden for system maintenance and annual reporting is 3 hours. For the 18 awardees funded at the Enhanced level, the estimated burden for the initial data entry needed to populate the system is 13 hours. Thereafter, the estimated burden for system maintenance and annual reporting is 9 hours. The revised method provides a more accurate depiction of burden per respondent in comparison to the method presented in previous requests for OMB approval, which was based on a long-term average burden per response. A change in the frequency of reporting from semi-annual to annual occurred in 2013 and shall remain annual in the revised MIS. Even though reports will be submitted to CDC annually, states may enter updates into the MIS at any time.

The MIS will provide a central repository of information, such as work plans of the state oral health programs (their goals, objectives, performance milestones and indicators), as well as state oral health performance activities including programmatic and financial information. CDC will use the information collected to monitor awardee activities and to provide any technical assistance or follow-up support that may be needed.

OMB approval is requested for three years. Participation in the progress reporting system is a condition of award for funded state oral health programs.

All information will be collected electronically and there are no costs to respondents other than their time.

The total estimated annualized burden hours are 255.

Estimated Annualized Burden Hours
Type of respondents | Form name | Number of respondents | Number of responses per respondent | Average burden per response (in hours)
Program Awardees Basic Level | Initial MIS Population | 1 | 1 | 6
| Annual Progress Report | 3 | 1 | 3
Program Awardees Enhanced Level | Initial MIS Population | 6 | 1 | 13
| Annual Progress Report | 18 | 1 | 9

Leroy A. Richardson,
Chief, Information Collection Review Office, Office of Scientific Integrity, Office of the Associate Director for Science, Office of the Director, Centers for Disease Control and Prevention.

[FR Doc. 2014-05945 Filed 3-18-14; 8:45 am]

BILLING CODE 4163-18-P